DEPARTMENT OF TRANSPORTATION

Federal Aviation Administration

14 CFR Part 39

[Docket No. 2003-NM-248-AD; Amendment 39-13408; AD 2003-26-10]

RIN 2120-AA64

Airworthiness Directives; Airbus Model A300 B2 and B4 Series Airplanes; and A300 B4-600, B4-600R, C4-605R Variant F, and F4-600R (Collectively Called A300-600) Series Airplanes

AGENCY: Federal Aviation Administration, DOT.

ACTION: Final rule; request for comments.

SUMMARY: This amendment adopts a new airworthiness directive (AD) that is applicable to the Airbus airplanes listed above. This action requires a one-time inspection for cracking of the lower outboard flange of gantry No. 4 in the main landing gear bay area, and repair if necessary. This action is necessary to find and fix such cracking, which could result in reduced structural integrity of the fuselage, and consequent rapid decompression of the airplane. This action is intended to address the identified unsafe condition.

DATES: Effective January 22, 2004.

The incorporation by reference of certain publications listed in the regulations is approved by the Director of the Federal Register as of January 22, 2004.

Comments for inclusion in the Rules Docket must be received on or before February 6, 2004.

ADDRESSES: Submit comments in triplicate to the Federal Aviation Administration (FAA), Transport Airplane Directorate, ANM-114, Attention: Rules Docket No. 2003-NM-248-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2003-NM-248-AD” in the subject line and need not be submitted in triplicate. Comments sent via fax or the Internet as attached electronic files must be formatted in Microsoft Word 97 or 2000 or ASCII text.

The service information referenced in this AD may be obtained from Airbus, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tony Jopling, Aerospace Engineer, International Branch, ANM-116, FAA, Transport Airplane Directorate, 1601 Lind Avenue, SW., Renton, Washington 98055-4056; telephone (425) 227-2190; fax (425) 227-1149.

SUPPLEMENTARY INFORMATION: The Direction Gĕnĕrale de l'Aviation Civile (DGAC), which is the airworthiness authority for France, notified the FAA that an unsafe condition may exist on certain Model A300 B2 and B4 series airplanes, and A300-600 series airplanes. The DGAC advises that cracks have been found on the lower outboard flange of gantry No. 4 in the main landing gear bay area on several Model A300-600 airplanes. During a maintenance inspection on one airplane, a 670-mm crack was found on the left side of gantry beam No. 4 between frame (FR) 52 and FR 53. The crack extended along the outboard flange of the beam. A 710-mm crack between FR 52 and FR 54 was found during an inspection done on another airplane after detection of an air leak. Subsequent to detection of the cracks, an emergency inspection was done by the manufacturer in a part of the structure between FR 52 and FR 53 that was not previously inspected, which revealed a 227-mm crack. Such cracking, if not found and fixed, could result in reduced structural integrity of the fuselage, and consequent rapid decompression of the airplane. This action is intended to address the identified unsafe condition.

The subject area on certain Model A300 B2 and B4 series airplanes is almost identical to that on affected Model A300-600 series airplanes. Therefore, those airplanes may be subject to the same unsafe condition revealed on the Model A300-600 series airplanes.

Explanation of Relevant Service Information

Airbus has issued All Operators Telex (AOT) A300-53A0371, Revision 01 (for Model A300 B2 and B4 series airplanes); and AOT A300-53A6145, Revision 01 (for Model A300-600 series airplanes); both dated September 10, 2003. The AOTs describe procedures for a detailed visual inspection of the left and right sides of the lower outboard flange of gantry No. 4 in the MLG bay area between FR 51 and FR 54. The AOTs recommend contacting Airbus if any cracks are found, in addition to specifying that flight with certain cracks is allowed and temporary repairs are available in case of large crack findings. The AOTs also recommend reporting inspection results to Airbus. The DGAC classified these AOTs as mandatory and issued French airworthiness directive 2003-356(B), dated September 17, 2003, to ensure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Rule

Since an unsafe condition has been identified that is likely to exist or develop on other airplanes of the same type design registered in the United States, this AD is being issued to find and fix cracking of the lower outboard flange of gantry No. 4, which could result in reduced structural integrity of the fuselage, and consequent rapid decompression of the airplane. This AD requires a one-time inspection for cracking of the lower outboard flange of gantry No. 4 in the main landing gear bay area, and repair if necessary. The actions are required to be accomplished in accordance with the AOTs described previously, except as discussed below. This AD also includes a reporting requirement.

Differences Among This AD, AOTs, and French Airworthiness Directive

Unlike the procedures described in the AOTs, this AD will not permit further flight if cracks are detected in the lower outboard flange of gantry No. 4. We have determined that, because of the safety implications and consequences associated with such cracking, any cracked flange must be repaired or modified before further flight.

The French airworthiness directive and the AOTs recommend accomplishing the inspection before the accumulation of 8,000 flights “since new” or within 14 days after the effective date of the French airworthiness directive. However, this AD requires accomplishment of the inspection before the accumulation of 8,000 total flight cycles since the date of issuance of the original Airworthiness Certificate or the date of issuance of the Export Certificate of Airworthiness, whichever is first; with a grace period of 30 days after the effective date of this AD. This decision is based on our determination that “since new” may be interpreted differently by different operators. We find that our proposed terminology is generally understood within the industry and records will always exist that establish these dates with certainty. In addition, we have determined that a 30 day grace period will ensure an acceptable level of safety and is an appropriate interval of time wherein the inspection can be accomplished during scheduled maintenance intervals for the majority of affected operators.

Although the AOTs specify that operators may contact the manufacturer for disposition of certain repair conditions, this AD requires operators to repair those conditions per a method approved by either us or the DGAC (or its delegated agent). In light of the type of repair that would be required to address the unsafe condition, and consistent with existing bilateral airworthiness agreements, we have determined that, for this AD, a repair approved by either us or the DGAC will be acceptable for compliance with this AD.

Interim Action

This AD is considered to be interim action. The inspection reports that are required by this AD will enable the manufacturer to obtain better insight into the nature, cause, and extent of the cracking, and eventually to develop final action to address the unsafe condition. Once final action has been identified, we may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Comments wishing the FAA to acknowledge receipt of their comments submitted in response to this rule must submit a self-addressed, stamped postcard on which the following statement is made: “Comments to Docket Number 2003-NM-248-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-26-10 Airbus: Amendment 39-13408. Docket 2003-NM-248-AD.

Applicability: Model A300 B2 and B4 series airplanes; and A300 B4-600, B4-600R, C4-605R Variant F, and F4-600R (collectively called A300-600) series airplanes; on which Airbus Modification 10147 has not been done; certificated in any category.

Compliance: Required as indicated, unless accomplished previously.

To find and fix cracking of the lower outboard flange of gantry No. 4, which could result in reduced structural integrity of the fuselage, and consequent rapid decompression of the airplane, accomplish the following:

One-Time Inspection

(a) At the later of the times specified in paragraphs (a)(1) and (a)(2) of this AD: Do a one-time detailed inspection for cracking of the lower outboard flange of gantry No. 4 in the main landing gear bay area per paragraph 4.2.1 of Airbus All Operators Telex (AOT) A300-53A0371, Revision 01 (for Model A300 B2 and B4 series airplanes); or AOT A300-53A6145, Revision 01 (for Model A300-600 series airplanes); both dated September 10, 2003; as applicable.

(1) Before the accumulation of 8,000 total flight cycles since the date of issuance of the original Airworthiness Certificate or the date of issuance of the Export Certificate of Airworthiness, whichever is first.

(2) Within 30 days after the effective date of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repair

(b) Repair any cracking found during the inspection required by paragraph (a) of this AD before further flight, per a method approved by either the Manager, International Branch, ANM-116, FAA, Transport Airplane Directorate; or the Direction Générale de l'Aviation Civile (or its delegated agent).

Reporting

(c) Submit a report of the findings (both positive and negative) of the inspection required by paragraph (a) of this AD to Airbus Customer Services, SEA21, Attention: Mr. Davide Cavazzini, fax number +33+ (0) 5.61.93.36.14, at the applicable time specified in paragraph (c)(1) or (c)(2) of this AD. The report must include the inspection results, a description of any cracking found, the airplane serial number, and the number of flight cycles on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was done before the effective date of this AD: Submit the report within 30 days after the effective date of this AD.

Alternative Methods of Compliance

(d) In accordance with 14 CFR 39.19, the Manager, International Branch, ANM-116, is authorized to approve alternative methods of compliance for this AD.

Incorporation by Reference

(e) Unless otherwise provided in this AD, the actions shall be done in accordance with Airbus All Operators Telex A300-53A0371, Revision 01, dated September 10, 2003; or Airbus All Operators Telex A300-53A6145, Revision 01, dated September 10, 2003; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2003-356(B), dated September 17, 2003.

Effective Date

(f) This amendment becomes effective on January 22, 2004.

Issued in Renton, Washington, on December 23, 2003.
Ali Bahrami,
Acting Manager, Transport Airplane Directorate, Aircraft Certification Service.

[FR Doc. 04-46 Filed 1-6-04; 8:45 am]

BILLING CODE 4910-13-P